DEPARTMENT OF COMMERCE

International Trade Administration

[A-122-838] and [C-122-839]

Amendment to Preliminary Determination of Sales at Less Than Fair Value: Certain Softwood Lumber Products from Canada; Amendment to Preliminary Affirmative Countervailing Duty Determination, Preliminary Affirmative Critical Circumstances Determination, and Alignment of Final Countervailing Duty Determination with Final Antidumping Determination: Certain Softwood Lumber Products from Canada.

AGENCY: Import Administration, International Trade Administration, Department of Commerce.

ACTION: Notice of amendment to preliminary determination of sales at less than fair value and amendment to preliminary affirmative countervailing duty determination, preliminary affirmative critical circumstances determination, and alignment of final countervailing duty determination with final antidumping determination.

SUMMARY: The Department of Commerce is amending its notices of preliminary determination in the antidumping duty (AD) investigation and preliminary determination in the countervailing duty (CVD) investigation of certain softwood lumber products from Canada to clarify Harmonized Tariff Schedule of the United States (HTSUS) coverage of the subject merchandise.

EFFECTIVE DATE: February 11, 2002.

FOR FURTHER INFORMATION CONTACT: Charles Riggle at 202-482-0650 or Maria MacKay at 202-482-1775, Office of AD/CVD Enforcement V, and AD/CVD Enforcement VI, respectively, Group II, Import Administration, International Trade Administration, U.S. Department of Commerce, 14th Street and Constitution Ave, NW, Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR Part 351 (2000).

ACTIONS SINCE PRELIMINARY DETERMINATIONS: In the notice of preliminary determination in the countervailing duty (CVD) investigation the Department published a list of products preliminarily excluded from the scope of these proceedings. See Notice of Preliminary Affirmative Countervailing Duty Determination, Preliminary Affirmative Critical Circumstances Determination, and Alignment of Final Determination With Final Antidumping Duty Determination: Certain Softwood Lumber Products From Canada, 66 FR 43186-43188 (August 17, 2001). Subsequently, in the notice of preliminary determination in the antidumping (AD) investigation, we amended that list, taking into account comments from interested parties and expert advice of the U.S. Customs Service (Customs). See Notice of Preliminary Determination of Sales at Less Than Fair Value and Postponement of Final Determination: Certain Softwood Lumber Products From Canada, 66 FR 56062, 56078 (November 6, 2001). Petitioners filed comments on this amended list.

ANALYSIS: Petitioners claim that, when the Department amended the list of the excluded products, it failed to correct an error: it did not clarify that certain products, included in the scope of these investigations, may be classified by Customs under Harmonized Tariff Schedule of the United States (HTSUS) headings other than those listed in the scope description (HTSUS 4407.1000, 4409.1010, 4409.1090, and 4409.1020). Petitioners point out that Customs has refused to enforce the suspension of liquidation based on the written description of the subject merchandise without a recitation of the HTSUS headings in which the subject merchandise could be classified.

We reviewed the HTSUS headings and subheadings of concern to petitioners, 4418.90.40.90, 4421.90.70, 4421.90.98.40, 4421.90, 4418.90.40.20, 4415.20, and the description of the subject merchandise (including the list of excluded products as updated in the AD preliminary determination). We also consulted with the National Import Specialist and took into account information provided by the U.S. International Trade Commission (ITC). See Memorandum to the File from Maria MacKay on Antidumping and Countervailing Duty Investigations on Softwood Lumber from Canada: Teleconference with Paul Garretto, National Import Specialist, U.S. Customs Service, dated 12/19/01, on file in the Central Record Unit, Room B-099, Main Commerce Building. As a result of our analysis, we concluded that certain products subject to the scope of these investigations may be classified by Customs under HTSUS 4418.90.40.90, 4421.90.70.40, and 4421.90.98.40. Our findings are detailed in a decision memorandum regarding Antidumping and Countervailing Duty Investigations on Softwood Lumber from Canada: Amendment to the Language of the Scope Description. See Memorandum to Bernard T. Carreau from Melissa G. Skinner and Gary Taverman on Antidumping and Countervailing Duty Investigations on Softwood Lumber from Canada: Amendment to the Language of the Scope Description, dated 1/18/02, on file in the Central Record Unit, Room B-099, Main Commerce Building.

We are therefore publishing an amendment to the notice of preliminary determination in the AD investigation and to the notice of preliminary determination in the CVD investigation clarifying the HTSUS coverage of the scope. Although additional HTSUS headings have been provided for convenience and U.S. Customs purposes, the written description remains dispositive. We plan to amend the instructions to Customs for both the AD and CVD cases.

AMENDMENT:

The language of the Scope Issues section in the notice of preliminary determination in the AD investigation (which also applies to the CVD investigation) is amended as follows (added language in bold print).

In the Initiation Notice, we invited all interested parties to raise issues and comment regarding the product coverage under the scope of this investigation. We received numerous comments, including scope clarification requests, scope exclusion requests, and requests for determinations of separate classes or kinds. The requests covered approximately 50 products, ranging from species, like Western red cedar and Douglas fir, to fencing products, bed frame components, pallet stock, and joinery and carpentry products. We published a preliminary list of scope exclusions in the Notice of Preliminary Affirmative Countervailing Duty Determination, Preliminary Affirmative Critical Circumstances Determination, and Alignment of Final Determination With Final Antidumping Duty Determination: Certain Softwood Lumber Products from Canada, 66 FR 43186 - 43188 (August 17, 2001) (CVD Preliminary).

In our review of the comments received since the first list of product exclusions was issued in the CVD Preliminary, we found that some of the excluded product definitions required further clarification. Based on our analysis of the comments received, we have amended the list of excluded products that was originally presented in the CVD Preliminary. The amended list of scope exclusions is divided into two groups:

Group A. Softwood lumber products excluded from the scope:

1. Trusses and truss kits, properly classified under HTSUS 4418.90

2. I-Joist beams

3. Assembled box spring frames

4. Pallets and pallet kits, properly classified under HTSUS 4415.20

5. Garage doors

6. Edge-glued wood, properly classified under HTSUS item 4421.90.98.40

7. Properly classified complete door frames.

8. Properly classified complete window frames

9. Properly classified furniture

Group B. Softwood lumber products excluded from the scope only if they meet certain requirements:

1. Stringers (pallet components used for runners): if they have at least two notches on the side, positioned at equal distance from the center, to properly accommodate forklift blades, properly classified under HTSUS 4421.90.98.40.

2. Box-spring frame kits: if they contain the following wooden pieces - two side rails, two end (or top) rails and varying numbers of slats. The side rails and the end rails should be radius-cut at both ends. The kits should be individually packaged, they should contain the exact number of wooden components needed to make a particular box spring frame, with no further processing required. None of the components exceeds 1” in actual thickness or 83” in length.

3. Radius-cut box-spring-frame components, not exceeding 1” in actual thickness or 83” in length, ready for assembly without further processing. The radius cuts must be present on both ends of the boards and must be substantial cuts so as to completely round one corner.

4. Fence pickets requiring no further processing and properly classified under HTSUS 4421.90.70, 1” or less in actual thickness, up to 8” wide, 6' or less in length, and have finials or decorative cuttings that clearly identify them as fence pickets. In the case of dog-eared fence pickets, the corners of the boards should be cut off so as to remove pieces of wood in the shape of isosceles right angle triangles with sides measuring 3/4 inch or more.

We have preliminarily determined that the products listed in groups (A) and (B) above are outside the scope of this investigation. See Memorandum to Bernard T. Carreau from Maria MacKay, Gayle Longest, David Layton on Scope Clarification in the Antidumping and Countervailing Duty Investigations on Softwood Lumber from Canada (October 30, 2001), which is on public file in the CRU, room B-099 of the main Commerce building. Lumber products that Customs may classify as stringers, radius cut box-spring-frame components, and fence pickets, not conforming to the above requirements, as well as truss components or pallet components, are covered under the scope of these investigations and may be classified under HTSUS subheadings 4418.90.40.90, 4421.90.70.40, and 4421.90.98.40. On January 24, 2002, Customs informed the Department of certain changes in the 2002 HTSUS affecting these products. Specifically, subheading 4418.90.40.90 and 4421.90.98.40 were changed to 4418.90.45.90 and 4421.90.97.40, respectively. Therefore, we are adding these subheadings as well.

This notice is issued and published pursuant to sections 773(f) and 777(i)(1) of the Act.

February 2,2002
Faryar Shirzad,
Assistant Secretary for Import Administration.

[FR Doc. 02-3257 Filed 2-8-02; 8:45 am]

BILLING CODE 3510-DS-S